DEPARTMENT OF THE INTERIOR

Bureau of Land Management

[BLM_AZ_FRN_MO#4500169746 AZA-38417]

Public Land Order No. 7927; Withdrawal, Arizona

AGENCY: Bureau of Land Management, Interior.

ACTION: Public land order.

SUMMARY: This Order withdraws 1,464 acres of Federal surface/subsurface public lands from appropriation under the public land laws, including location and entry under the United States mining laws, but not from leasing under the mineral and geothermal leasing laws, and 1,134 acres of Federal surface public lands from appropriation under the public land laws, and reserves the land for 100 years for management as part of the Bill Williams River National Wildlife Refuge (NWR) located in La Paz and Mohave Counties, Arizona, subject to valid existing rights.

DATES: This Public Land Order takes effect on August 8, 2023.

FOR FURTHER INFORMATION CONTACT: Michael Ouellett, Realty Specialist, BLM Arizona State Office, 1 North Central Avenue, Suite 800, Phoenix, AZ 85004, telephone: (602) 417-9561, email at mouellett@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This withdrawal and reservation places these lands under the management of the Department of the Interior, U.S. Fish and Wildlife Service, pursuant to the National Wildlife Refuge System Administration Act (NWRSAA) at 16 U.S.C. 668dd, as part of Bill Williams River NWR. These lands were previously withdrawn and reserved as part of the refuge for a 40-year term under Public Land Order No. 6044, which expired on October 7, 2021. Under the NWRSAA at 16 U.S.C. 668dd(a)(6), once land is reserved for management as part of the Refuge System, they remain part of the System until otherwise specified by Act of Congress. This Order reflects the reservation and withdraws the land from the laws specified to protect the land from uses incompatible with Refuge purposes.

Order

By virtue of the authority vested in the Secretary of the Interior by Section 204 of the Federal Land Policy and Management Act of 1976, 43 U.S.C. 1714, it is ordered as follows:

1. Subject to valid existing rights, the following described Federal surface/subsurface public lands are hereby withdrawn from all forms of appropriation under the public land laws, including location and entry under the United States mining laws, but not from leasing under the mineral and geothermal leasing laws, and reserved for wildlife refuge purposes as part of the Bill Williams River NWR;

Gila and Salt River Meridian, Arizona

(Surface and Subsurface Estate Land)

T. 11 N., R. 17 W.,

Sec. 20, E½, E½NW¼, NE¼SW¼, S½SW¼;

Sec. 25, S½SE¼;

Sec. 26, SE¼SW¼, S½SE¼;

Sec. 28, N½, N½SW¼, SE¼SW¼, SE¼SE¼;

Sec. 34, N½NE¼, SE¼NE¼, N½NW¼;

Sec. 36, N½SE¼NE¼.

T. 11 N., R. 18 W.,

Sec. 12, SW¼SW¼ that portion lying northerly of the Havasu Lake National Wildlife Refuge boundary, as described in Executive Order 8647 of January 22, 1941, and southwesterly of the southwesterly right-of-way line of State Highway 95; sec. 24, NE¼NE¼.

The areas described aggregate 1,464 acres.

2. Subject to valid existing rights, the following described Federal surface public lands are hereby withdrawn from all forms of appropriation under the public land laws and reserved for wildlife refuge purposes as part of the Bill Williams River NWR;

Gila and Salt River Meridian, Arizona

(Surface Estate Land)

T. 11 N., R. 17 W.,

Sec. 19, lot 2, NE¼SW¼, S½SE¼;

Sec. 21, SW¼SW¼;

Sec. 25, S½SW¼;

Sec. 27, SW¼NE¼, S½NW¼;

Sec. 29, E½NW¼;

Sec. 33, S½NE¼, SE¼NW¼;

Sec. 35, N½NE¼, S½NE¼SW¼, NW¼SW¼, S½NW¼SE¼.

T. 11 N., R. 18 W.,

Sec. 11, those portions of the SW¼NE¼, W½NW¼, SE¼NW¼, NE¼SW¼, N½NW¼SW¼, N½SE¼SW¼, NE¼SE¼, W½SE¼, SE¼SE¼ lying northerly of the Havasu Lake National Wildlife Refuge boundary, as described in Executive Order 8647 of January 22, 1941, and southerly of the southwesterly right-of-way line of State Route 95.

Sec. 13, those portions of the W½NE¼SW¼, NW¼SW¼, SE¼SW¼, S½SW¼SE¼, SW¼SE¼SE¼ lying southerly of the Havasu Lake National Wildlife Refuge boundary, as described in Executive Order 8647 of January 22, 1941.

The areas described aggregate 1,134 acres.

3. This withdrawal will expire 100 years from the effective date of this order, unless, as a result of a review conducted pursuant to Section 204(f) of the Federal Land Policy and Management Act of 1976, 43 U.S.C 1714(f), the Secretary determines that the withdrawal shall be extended.

Tommy P. Beaudreau,
Deputy Secretary of the Interior.

[FR Doc. 2023-16982 Filed 8-7-23; 8:45 am]

BILLING CODE 4333-15-P